DEPARTMENT OF ENERGY

Notice of Request for Information (RFI) on Resilient and Efficient Codes Implementation

AGENCY: Office Energy Efficiency and Renewable Energy, Building Technologies Office, Department of Energy (DOE).

ACTION: Request for information (RFI).

SUMMARY: The U.S. Department of Energy (DOE) invites public comment on its request for information (RFI) number DE-FOA-0002755 regarding the Building Technologies Office's Draft Resilient and Efficient Codes Implementation (RECI) Funding Opportunity Announcement (FOA), as required by the Infrastructure Investment and Jobs Act also known as the Bipartisan Infrastructure Law (BIL). Information collected from this RFI will be used by DOE for planning purposes when developing a potential FOA and will not be published.

DATES: A public workshop to gather additional input on a potential FOA will be held on April 27, 2022. Responses to the RFI must be received by 5:00 p.m. (ET) on May 20, 2022.

ADDRESSES: Additional information on the public workshop is available at: https://www.energycodes.gov/RECI-codes-workshop.

Comments to the RFI must be provided in writing. Interested parties are to submit their written comments electronically to RECI_RFI@hq.doe.gov and include “RECI FOA” in the subject line of the email. Email attachments can be provided as a Microsoft Word (.docx) file or an Adobe PDF (.pdf) file, prepared in accordance with the detailed instructions in the RFI. Documents submitted electronically should clearly indicate which topic areas and specific questions are being addressed and should be limited to no more than 25 MB in size. Further instructions can be found in the complete RFI DE-FOA-0002755 document located at https://eere-exchange.energy.gov/.

FOR FURTHER INFORMATION CONTACT: Mr. Christopher Perry, (240) 780-6149, Christopher.perry@ee.doe.gov.

SUPPLEMENTARY INFORMATION: This RFI pertains to a draft FOA to be issued by the Office of Energy Efficiency and Renewable Energy, Building Technologies Office (BTO) on the effective implementation of resilient and efficient building energy codes. The intent of this RFI is to obtain public input from state and local government agencies, building officials, contractors, designers, builders, other industry representatives, community organizations, academia, research laboratories, and other stakeholders regarding the solicitation process and structure of a potential FOA to fund sustained cost-effective implementation of building energy codes, in accordance with the BIL.

The goal of this potential FOA is to effectively address building energy code implementation priorities as outlined in Section 40511. Cost-Effective Codes Implementation for Efficiency and Resilience of the BIL. DOE anticipates the possible resulting outcomes of a potential FOA will increase the successful implementation of updated energy codes in states and territories throughout the United States. In addition to this foundational goal, DOE anticipates that this funding will make significant progress in developing a next generation workforce, facilitating updates, advancing new policies and tools, increasing equity, and improving overall compliance necessary to advance energy codes across the U.S.

DOE is seeking input from the public regarding the designs and goals of the potential FOA, with specific input requested on:

• Energy Code Implementation Criteria and Requirements for Key Topic Areas

• Advanced Energy Codes and Building Resilience

• Methods to Support Sustained State Energy Code Implementation

• Funding, Partnerships, Eligible Entities, and Evaluation Criteria

• Equity, Environmental and Energy Justice (EEEJ) Priorities

In addition to these specific items, DOE is requesting input on other aspects, such as: Technical requirements; funding and cost share requirements; period of performance requirements; data sharing, measurement and validation requirements; and other relevant issues.

Specific questions can be found in the RFI. The RFI DE-FOA-0002755 is available at: https://eere-exchange.energy.gov/.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOE will make its own determination about the confidential status of the information and treat it according to its determination.

Signing Authority: This document of the Department of Energy was signed on April 12, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 13, 2022.
Treena V. Garrett,
Federal Register Liaison Officer, U.S. Department of Energy.

[FR Doc. 2022-08247 Filed 4-15-22; 8:45 am]

BILLING CODE 6450-01-P